DEPARTMENT OF COMMERCE

National Oceanic and Atmospheric Administration

50 CFR Part 660

[Docket No. 021209300-3048-02; I.D. 112502C]

RIN 0648-AQ18

Magnuson-Stevens Act Provisions; Fisheries off West Coast States and in the Western Pacific; Pacific Coast Groundfish Fishery; Annual Specifications and Management Measures; Correction

AGENCY: National Marine Fisheries Service (NMFS), National Oceanic and Atmospheric Administration (NOAA), Commerce.

ACTION: Final rule; correction.

SUMMARY: This document contains corrections to the final rule published on March 7, 2003, for the Pacific Coast groundfish fishery.

DATES: Effective June 15, 2003.

FOR FURTHER INFORMATION CONTACT: Becky Renko (NMFS, Northwest Region), 206-526-6140.

SUPPLEMENTARY INFORMATION: The specifications and management measures for the 2003 fishing year (January 1 - December 31, 2003) were initially published in the Federal Register as an emergency rule for January 1 - February 28, 2003 (68 FR 908, January 7, 2003) and as a proposed rule for March 1 - December 31, 2003 (68 FR 936, January 7, 2003). The emergency rule was amended at 68 FR 4719, January 30, 2003. The final rule for March 1 - December 31, 2003 was published in the Federal Register on March 7, 2003 (68 FR 11182) and was amended at 68 FR 18166 on April 15, 2003, and at 68 FR 23901, on May 6, 2003.

The final rule contained errors in the whiting allocation amounts listed in footnote d/ of Table 1a and in section IV. under B., Limited Entry Fishery, paragraph 3 that are being corrected. This document corrects the typographical errors in the non-tribal whiting allocations.

Correction

In the rule FR Doc. 03-51665, in the issue of Friday, March 7, 2003 (68 FR 11182) make the following corrections:

1. On page 11193, Tables 1a and 1b, are corrected to read as follows:

BILLING CODE 3510-22-S

2. On page 11222, in column 2, section IV, under B., Limited Entry Fishery, paragraph 3 (a)(i) and (3)(a)(ii) are revised to read as follows:

IV NMFS Actions

* * * * *

(B) Limited Entry Fishery

* * * * *

(3) * * *

(a) * * *

(i) Catcher/processor sector 41,208 mt (24 percent); and

(ii) Mothership sector--29,088 mt (34 percent).

* * * * *

Authority: 16 U.S.C. 1801 et seq.

Dated: June 9, 2003.
Rebecca Lent,
Deputy Assistant Administrator for Regulatory Programs, National Marine Fisheries Service.

[FR Doc. 03-15155 Filed 6-13-03; 8:45 am]

BILLING CODE 3510-22-S